ENVIRONMENTAL PROTECTION AGENCY

[FRL-7017-6]

Proposed Settlement Under Section 122(h) of the Comprehensive Environmental Response, Compensation and Liability Act of 1980 (CERCLA), as Amended, Access Road to Old 141 Highway Superfund Site, Arnold, Missouri

AGENCY: Environmental Protection Agency.

ACTION: Notice, request for public comment.

SUMMARY: The United States Environmental Protection Agency (EPA) is proposing to enter into an administrative settlement to resolve claims under the Comprehensive Environmental Response, Compensation and Liability Act of 1980 (CERCLA), as amended 42 U.S.C. 9622(h). This settlement is intended to resolve the liability of the Simpson Sand and Gravel Company, Valley Disposal Co., Inc., Simpson Materials Company, Simpson Holding Company, Valley Trucking Company, Meramec Trucking, Inc., Missouri Aggregates, Inc., and Simpson Construction Materials, L.L.C. for response costs incurred at the Access Road to Old 141 Highway Superfund Site, near Arnold, Jefferson County, Missouri.

DATES: Written comments must be provided on or before August 27, 2001.

ADDRESSES: Comments should be addressed to Steven L. Sanders, Assistant Regional Counsel, Office of Regional Counsel, United States Environmental Protection Agency, Region VII, 901 North 5th Street, Kansas City, Kansas 66101 and should refer to: In the Matter of Access Road to Old 141 Highway Site, EPA Docket No. CERCLA-07-2001-0054.

The proposed administrative cost recovery settlement may be examined in person at the United States Environmental Protection Agency, Region VII, 901 North 5th Street, Kansas City, Kansas 66101. A copy of the proposed settlement may be obtained from Kathy Robinson, Regional Hearing Clerk, EPA Region VII, 901 North 5th Street, Kansas City, Kansas 66101, telephone (913) 551-7567.

FOR FURTHER INFORMATION CONTACT: Steven L. Sanders, Assistant Regional Counsel, Office of Regional Counsel, EPA Region VII, 901 North 5th Street, Kansas City, Kansas 66101, telephone (913) 551-7010.

Dated: July 11, 2001.
Michael J. Sanderson,
Director, Superfund Division, U.S. EPA, Region VII.

[FR Doc. 01-18821 Filed 7-26-01; 8:45 am]

BILLING CODE 6560-50-P